DEPARTMENT OF LABOR

Employment and Training Administration

[TA-W-63,819]

Jakel, Inc., Murray, KY; Notice of Termination of Investigation

Pursuant to section 221 of the Trade Act of 1974, as amended, an investigation was initiated on August 6, 2008 in response to a petition filed by workers of Jakel, Inc., Murray, Kentucky. The subject firm stopped production on September 30, 2007.

The petitioning group of workers is covered by a previous certification (TA-W-59,714) which expired on September 2, 2008. The date of separation of the worker group was within the time period covered by this certification. Consequently, further investigation in this case would serve no purpose, and the investigation has been terminated.

Signed at Washington, DC, this 8th day of September 2008.
Richard Church,
Certifying Officer, Division of Trade Adjustment Assistance.

[FR Doc. E8-21836 Filed 9-17-08; 8:45 am]

BILLING CODE 4510-FN-P